DEPARTMENT OF ENERGY

Federal Energy Regulatory Commission

[Docket No. RP99-106-006]

TransColorado Gas Transmission Company; Notice of Revenue Report

February 6, 2001.

Take notice that on February 1, 2001, TransColorado Gas Transmission Company (TransColorado) tendered for filing Pro Forma Sixth Revised Sheet No. 20 to Original Volume No. 1 of its FERC Gas Tariff reflecting Proposed Final Rates for transportation services to be effective February 1, 2001.

The Proposed Final Rates were supported by a Cost & Revenue Report, which contains operating and other relevant information for the period from March 31, 1999, through September 30, 2000.

TransColorado states that this filing is made in compliance with an Offer of Settlement (Settlement) approved by a Commission Order on January 14, 2000, in Docket No. RP99-106. In its Order approving the Settlement, the Commission clarified that TransColorado must file the Cost & Revenue report with the Commission for the specific purpose of allowing new parties to file interventions in the ongoing proceedings to acquire the same rights and obligations afforded the current participants to the proceeding.

TransColorado states a copy of this filing has been served upon TransColorado's jurisdictional customers, the Colorado Public Utilities Commission, the New Mexico Public Utilities Commission, and each person designated on the official service list compiled by the Secretary in this proceeding.

Any person desiring to protest said filing should file a protest with the Federal Energy Regulatory Commission, 888 First Street, NE., Washington, DC 20426, on or before February 13, 2001. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3424 Filed 2-9-01; 8:45 am]

BILLING CODE 6717-01-M